FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transaction Granted Early Termination, 03/05/2002
20020467 | Express Scripts, Inc | Richard O. Ullman | Airport Properties, LLC (“APLLC”) CFI of New Jersey, Inc. (“CFINJ”) CFI, Inc. (“CFI”) National Prescription Administrators, Inc. (“NPA”) NPA of New York, IPA, Inc. (“IPA”) The Ullman Family Partnership, LP (“LP”)
20020476 | Givaudan, S.A | Nestle S.A | FIS-North America, Inc
20020477 | Royal Dutch Petroleum Company | Siemens und Shell Solar GmbH | Siemens und Shell Solar GmbH
20020484 | Telephone and Data Systems, Inc. Voting Trust | MCT Inc | MCT, Inc
20020485 | Lee Enterprises Incorporated | Robert S. Howard and Lillian I. Howard | Howard Publications, Inc
20020487 | Community Newspaper Holdings, Inc | Dow Jones & Company, Inc | The Ashland Daily Independent, Inc The Joplin Globe, Inc The Mankato Free Press, Inc The Sharon Herald
20020488 | ALLTEL Corporation | Verizon Communications Inc | Verizon South Inc
200020489 | Welsh, Carson, Anderson 7 Stowe VIII, L.P | SAVVIS Communications Corporation | SAVVIS Communications Corporation
Transaction Granted Early Termination, 03/08/2002
20020441 | The Titan Corporation | Jaycor, Inc. Employee Stock Ownership Plan | Jaycor, Inc
20020462 | Stonebridge Partners Equity Fund III, L.P | General Electric Company | Hunter Fan Company
20020471 | Ripplewood Partners, L.P | Proxim, Inc | Proxim, Inc
20020482 | BJ Services Company | Great Lakes Chemical Corporation | OSCA, Inc
20020502 | The Shaw Group Inc | The IT Group, Inc., Debtor in Possession | The IT Group, Inc., Debtor in Possession
20020503 | Societe des Participations du Commissariat | Duke Energy Corporation | Duke Engineering & Services, Inc
20020504 | Vector Group Ltd | Gary L. Hall | The Medallion Company, Inc
20020506 | Mr. Paris Mouratoglou | Innogy Holdings plc | Delaware Mountain Wind Farm L.P. NWP Indian Mesa Wind Farm L.P Pennsylvania Windfarms Inc
20020511 | Province Healthcare Company | Memorial Health Systems, Inc | Henry County, Inc
20020513 | Sun Capital Partners II, L.P | Questron Technology, Inc | Questron Technology, Inc
200020517 | Centrica plc | NewPower Holdings, Inc | NewPower Holdings, Inc
Transaction Granted Early Termination, 03/11/2002
20020475 | Maverick Tube Corporation | Precision Tube Holding Corporation | Precision Tube Holding Corporation
20020486 | aaiPharma Inc | Eli Lilly and Company | Eli Lilly and Company
20020494 | Pharmacia Corporation | Nastech Pharmaceutical Company Inc | Nastech Pharmaceutical Company Inc
20020512 | PeopleSoft, Inc | Peoplesoft, Inc | Momentum Business Applications, Inc
Transaction Granted Early Termination, 03/12/2002
20020483 | Level 3 Communications, Inc | Rebar, LLC | CorpSoft, Inc
20020497 | Moody's Corporation | KMV Corporation | KMV Corporation
20020498 | MidAmerican Energy Holdings Company | The Williams Companies, Inc | Kern River Gas Transmission Company
20020505 | U.S. Bancorp | First Defiance Financial Corp | The Leader Mortgage Company, LLC
Transaction Granted Early Termination, 03/15/2002
20020524 | WLR Recovery Fund, L.P. | The LTV Corporation | EGL-LTV Holding Com. LTV Steel Company, Inc.
20020530 | Code, Hennessy & Simmons, IV, L.P | Furnishings International Inc. | Berkline Corporation Blue Mountain Trucking Corporation Universal Furniture Limited
20020533 | Forstmann Little & Co. Equity Partnership V, L.P | MCLeodUSA Incorporated | MCLeodUSA Incorporated
20020534 | Forstmann Little & Co. Subordinated Debt & Equit Mgmt. VI | MCLeodUSA Incorporated | MCLeodUSA Incorporated
20020535 | Forstmann Little & Co. Equity Partnership—VII, L.P | MCLeodUSA Incorporated | MCLeodUSA Incorporated
20020536 | Forstmann Little & Co. Sub. Debt & Equity Mgmt. Buyout VII | MCLeodUSA Incorporated | MCLeodUSA Incorporated
20020537 | Forstmann Little & Co. Subordinated Debt & Equity Mgmt. VIII | MCLeodUSA Incorporated | MCLeodUSA Incorporated
20020544 | AT&T Wireless Services, Inc | AT&T Wireless Services, Inc | AT&T Wireless PCS of Philadelphia, LLC

FOR FURTHER INFORMATION CONTACT: Sandra M. Peay; or, Chandra L. Kennedy, Contact Representatives, Federal Trade Commission, Premerger Notification Office, Bureau of Competition, Room 303, Washington, DC 20580. (202) 326-3100.

By Direction of the Commission.
Donald S. Clark,
Secretary.

[FR Doc. 02-8017 Filed 4-2-02; 8:45 am]

BILLING CODE 6750-01-M